ENVIRONMENTAL PROTECTION AGENCY

[FRL-7416-2]

Proposed CERCLA Administrative Agreement Relating to the Liberty Industrial Finishing Superfund Site, Town of Oyster Bay, Nassau County, New York

AGENCY: Environmental Protection Agency.

ACTION: Notice; request for public comment.

SUMMARY: In accordance with the Agency's May 24, 1995, “Guidance on Agreements with Prospective Purchasers of Contaminated Property,” notice is hereby given of a proposed prospective purchaser agreement (“PPA agreement”) with the Town of Oyster Bay (the “Town”) concerning their possible acquisition, by eminent domain, of an approximately 15-acre parcel of real property (the “Property”) included within the Liberty Industrial Finishing Superfund Site in the Town of Oyster Bay, Nassau County, New York (the “Site”). Under the PPA agreement, the United States would covenant not to sue or take administrative action against the Town under section 106 or 107(a) of the Comprehensive Environmental Response, Compensation, and Liability Act of 1980, as amended (“CERCLA”) if the Town becomes the owner of the Property. In exchange, the Town will pay to EPA the difference between the value of the Property, determined as though the Property was not contaminated, and the amount that the Town is required to pay to the owners of the Property for the eminent domain taking, but in no event less than $500,000 nor more than $5,300,000. By publication of this notice, a 30 day period has been established in which the Agency will accept written comments relating to the PPA agreement. The Agency will consider all comments received and may modify or withdraw its consent to the PPA agreement if comments received disclose facts or considerations which indicate that the agreement is inappropriate, improper, or inadequate. The Agency's response to any comments received will be available for public inspection at the U.S. Environmental Protection Agency, Region II, Office of Regional Counsel, New York/Caribbean Superfund Branch, 290 Broadway, 17th Floor, New York, NY 10007-1866.

DATES: Comments must be submitted on or before January 2, 2003.

ADDRESSES: The proposed PPA agreement is available for public inspection at the U.S. Environmental Protection Agency, Region II, Superfund Records Center, 290 Broadway, 18th Floor, New York, NY 10007-1866. A copy of the proposed PPA agreement may be obtained from the individual listed below. Comments should reference the Liberty Industrial Finishing Superfund Site, Nassau County, New York and EPA Index No. CERCLA-02-2002-2019, and should be addressed to the individual listed below.

FOR FURTHER INFORMATION CONTACT: Michael A. Mintzer, Assistant Regional Counsel, New York/Caribbean Superfund Branch, Office of Regional Counsel, U.S. Environmental Protection Agency, 290 Broadway, 17th Floor, New York, NY 10007-1866, Telephone: (212) 637-3168.

Dated: November 18, 2002.
William J. Muszynski,
Deputy Regional Administrator, U.S. Environmental Protection Agency, Region II.

[FR Doc. 02-30600 Filed 12-2-02; 8:45 am]

BILLING CODE 6560-50-P